DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Evaluation of SAMHSA's Minority Fellowship Program (MFP)—NEW.

The Substance Abuse and Mental Health Services Administration's Center for Mental Health Services (CMHS) will conduct an independent evaluation of the Minority Fellowship Program (MFP).

In 1973, in response to a substantial lack of ethnic and racial minorities in the mental health professions, the Center for Minority Health at the National Institute of Mental Health established the Minority Fellowship Program (MFP). Since its move to SAMHSA in 1992, the MFP has continued to facilitate the entry of minority graduate students and psychiatric residents into mental health careers and has increased the number of psychology, psychiatry, nursing, and social work professionals trained to provide mental health and substance abuse services to minority groups. Up until FY 2007, grantees have been limited to the American Nurses Association (ANA), the American Psychiatric Association (ApA), the American Psychological Association (APA), and the Council on Social Work Education (CSWE). The MFP is supported by funds from all three SAMHSA centers, the Center for Mental Health Services (CMHS), the Center for Substance Abuse Treatment (CSAT), and the Center for Substance Abuse Prevention (CSAP).

With input from SAMHSA staff, the four pre-2007 grantee organizations, and two advisory panels (of independent experts in the MFP and/or culturally competent behavioral health care, as well as consumer and family representatives), a logic model was designed and a set of data collection instruments have been developed for this evaluation. SAMHSA will employ information that is routinely collected under existing program requirements and also will be collecting additional data that also are necessary for the conduct of the evaluation. At the end of each grant year, the grantee organizations (the ANA, ApA, APA, and CSWE) will document their activities, accomplishments, and expenditures and assessment measures for the most recently completed fiscal year. In addition, each grantee will maintain a database with information on current and former Fellows. None of the data collection activities proposed for this evaluation will be redundant with these existing reporting requirements and data sources. The evaluation plan includes gathering information about the MFP from persons with different experiences and perspectives on the MFP. Accordingly, SAMHSA proposes to conduct the following new data collection activities:

On-line (Internet-based) surveys:

1. Current SAMHSA MFP Fellows in each of the four academic disciplines;

2. MFP Alumni who were in the four programs during the time the program was administered by SAMHSA; and

3. Current and former members of Selection and Advisory Committees in each of the four grantee programs.

Telephone Interviews:

1. Current and former SAMHSA MFP Staff and other SAMHSA officials involved in the MFP;

2. Current and former MFP Program Directors or Senior Staff in each of the four grantee programs; and

3. Staff in each of the grantee's host organizations (i.e. staff in the ANA, APA, ApA, and CSWE).

The surveys and interview protocols have been developed to include questions relevant to each of the respective stakeholder groups named above, with similar core questions asked across all groups.

The resulting data will identify (1) the historical context in which the MFP has operated; (2) the processes and activities established by SAMHSA and by the grantees to implement the MFP; (3) the perceptions about how well the SAMHSA MFP is performing; and (4) the ability of the program to achieve particular goals under its purview.

Each new cohort of Fellows will develop and support the following goals:

1. Training/mentoring ethnic/racial minority students and professionals in mental health/substance abuse treatment;

2. Increasing the number of ethnic/racial minority professionals in mental health/substance abuse treatment;

3. Increasing diversity in mental health/substance abuse leadership;

4. Increasing professional contributions in mental health/substance abuse treatment for minority populations;

5. Increasing institutional involvement of ethnic/racial minority professionals in the areas of mental health and substance abuse treatment; and

6. Increasing mental health and substance abuse services to minority communities.

The burden estimate for conducting the surveys and interviews under the evaluation plan for the MFP is as follows:

Surveys | Number of respondents | Responses per respondent | Burden per response (hrs.) | Total burden (hrs.)
Current SAMHSA MFP Fellows Survey | 100 | 1 | 1.5 | 150
SAMHSA MFP Alumni Survey | 850 | 1 | 2 | 1700
MFP Selection and Advisory Committees Survey | 40 | 1 | 1.5 | 60
Current and former SAMHSA MFP Program Staff and other SAMHSA officials Interview Protocol | 8 | 1 | 2 | 16
Current and former MFP Program Directors or Senior Staff (from the grantee organizations) Interview Protocol | 8 | 1 | 2 | 16
Grantee host organization Interview Protocol | 8 | 1 | 1 | 8
Totals | 1,015 |  |  | 1,950

Written comments and recommendations concerning the proposed information collection should be sent by June 17, 2009 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: May 11, 2009.
Elaine Parry,
Director, Office of Program Services.

[FR Doc. E9-11517 Filed 5-15-09; 8:45 am]

BILLING CODE 4162-20-P